DEPARTMENT OF ENERGY

Federal Energy Regulatory Commission

[Project No. 11541-000 Idaho]

Atlanta Power Station; Notice of Meeting

November 2, 2000.

A telephone conference will be convened by staff of the Office of Energy Projects on December 6, 2000, at 1 p.m. eastern standard time. The purpose of the meeting is to discuss the operation of the upstream fishway and the design of the downstream fish screen structure as suggested by the U.S. Department of the Interior Fish and Wildlife Service (FWS) in their comments on the draft environmental assessment of the Atlanta project. Also, the meeting will clarify issues that need to be addressed in the Final Environmental Assessment.

Any person wishing to be included in the telephone conference should contact Gaylord W. Hoisington at (202) 219-2756 or e-mail at gaylord.hoisington@ferc.fed.us. Please notify Mr. Hoisington by November 30, 2000, if you want to be included in the telephone conference.

David P. Boergers,
Secretary.

[FR Doc. 00-28633 Filed 11-7-00; 8:45 am]

BILLING CODE 6717-01-M